DEPARTMENT OF COMMERCE

International Trade Administration

[A-570-501]

Notice of Extension of Time Limit for the Preliminary Results of New Shipper Reviews: Natural Bristle Paintbrushes and Brush Heads From the People's Republic of China

AGENCY: Import Administration, International Trade Administration, U.S. Department of Commerce

SUMMARY: The Department of Commerce is extending the time limit for the preliminary results of the new shipper reviews on Shanghai R&R Imp./Exp. Co., Ltd. and Changshan Import/Export Co., Ltd. under the antidumping duty order on natural bristle paintbrushes and brush heads from the People's Republic of China until no later than July 26, 2004. The period of review for these new shipper reviews is February 1, 2003, through July 31, 2003. This extension is made pursuant to section 751(a)(2)(B)(iv) of the Tariff Act of 1930, as amended.

EFFECTIVE DATE: March 18, 2004.

FOR FURTHER INFORMATION CONTACT: Douglas Kirby or Scott Lindsay, AD/CVD Enforcement, Import Administration, International Trade Administration, U.S. Department of Commerce, 14th Street and Constitution Avenue, NW., Washington DC 20230; telephone: (202) 482-3782 or (202) 482-1386, respectively.

SUPPLEMENTARY INFORMATION:

Statutory Time Limits

Section 351.214(i)(1) of the regulations requires the Department to issue the preliminary results of a new shipper review within 180 days after the date on which the new shipper review was initiated, and the final results of review within 90 days after the date on which the preliminary results were issued. However, if the Department determines the issues are extraordinarily complicated, section 351.214(i)(2) of the regulations allows the Department to extend the deadline for the preliminary results to up to 300 days after the date on which the new shipper review was initiated.

Background

On August 14, 2003, the Department received timely requests from Shanghai R&R Imp./Exp. Co., Ltd. and Changshan Import/Export Co., Ltd., pursuant to section 751(a)(2)(B) of the Tariff Act of 1930 (the Act) and in accordance with 19 CFR 351.214(c), for new shipper reviews under the antidumping duty order on natural bristle paintbrushes and brush heads from the PRC. This order has a February anniversary month, and, therefore, an August semiannual anniversary month. On September 30, 2003, the Department initiated these two new shipper reviews. See Natural Bristle Paintbrushes and Brush Heads from the People's Republic of China: Initiation of Antidumping Duty New Shipper Reviews, 68 FR 57875 (October 7, 2003).

Extension of Time Limits for Preliminary Results

Pursuant to section 751(a)(2)(B) of the Act, the Department may extend the deadline for completion of the preliminary results of a new shipper review if it determines that the case is extraordinarily complicated. The Department has determined that these cases are extraordinarily complicated, and the preliminary results of these new shipper reviews cannot be completed within the statutory time limit of 180 days. The Department finds that these new shipper reviews are extraordinarily complicated because there are a number of issues that must be addressed. For example, the Department is in the process of issuing supplemental questionnaires requesting additional information concerning affiliation and the bona fides of the sales. Given the issues in this case, the Department may find it necessary to request even more information in these new shipper reviews. Therefore, in accordance with section 351.214(i)(2) of the regulations, the Department is extending the time limit for the completion of preliminary results to three hundred days. The preliminary results will now be due no later than July 26, 2004.

This notice is published pursuant to sections 751(a)(2)(B) and 777(i)(1) of the Act.

Dated: March 11, 2004.
Joseph A. Spetrini,
Deputy Assistant Secretary for Import Administration, Group III.

[FR Doc. 04-6144 Filed 3-17-04; 8:45 am]

BILLING CODE 3510-DS-P